DEPARTMENT OF HOMELAND SECURITY

Bureau of Customs and Border Protection

Notice of Cancellation of Customs Broker License

AGENCY: Bureau of Customs and Border Protection, U.S. Department of Homeland Security.

ACTION: General Notice.

SUMMARY: Pursuant to section 641 of the Tariff Act of 1930, as amended, (19 U.S.C. 1641) and the Customs Regulations (19 CFR 111.51), the following Customs broker licenses and all associated permits are cancelled without prejudice.

Name | License No. | Issuing port
International Cargo Systems, Inc | 15594 | Boston
Delmar Logistics, Inc | 17142 | Los Angeles
Robert D. Hancock, Jr. | 03755 | Houston
Rialto International, Inc | 22077 | Seattle

Dated: August 18, 2008.
Daniel Baldwin,
Assistant Commissioner, Office of International Trade.

[FR Doc. E8-20676 Filed 9-4-08; 8:45 am]

BILLING CODE 9111-14-P